DEPARTMENT OF COMMERCE

National Oceanic and Atmospheric Administration

[I.D. 042001C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on May 14-17, 2001.

ADDRESSES: These meetings will be held at the Edgewater Beach Resort, 11211 Front Beach Road, Panama City Beach, Florida 32407; telephone: 334-235-4977.

Council address: Gulf of Mexico Fishery Management Council, 3018 U.S. Highway 301 North, Suite 1000, Tampa, FL 33619.

FOR FURTHER INFORMATION CONTACT: Wayne E. Swingle, Executive Director, Gulf of Mexico Fishery Management Council; telephone: 813-228-2815.

SUPPLEMENTARY INFORMATION:

Meeting Dates, Times, and Agendas

May 14

12-5:30 p.m.—Convene the Reef Fish Management Committee to approve Draft Reef Fish Amendment 18 and a draft supplemental environmental impact statement for public hearings and to consider establishing a Reef Fish Quota Management Working Group to Develop an Individual Fishing Quota Profile.

May 15

8-8:30 a.m.—Convene the Red Drum Management Committee to hear recommendations from the Red Drum Stock Assessment Panel on stock assessment methodology.

8-9:30 a.m.—Convene the Law Enforcement Committee to discuss the Law Enforcement Advisory Panel’s Cooperative Law Enforcement Operations Plan, and to discuss Federal support of regional law enforcement.

9:30-10 a.m.—Convene the Data Collection Committee to hear a presentation on the Gulf State Marine Fisheries Commission Fisheries Information Network program.

10 a.m.-12 noon—Convene the Administrative Policy Committee to discuss Senate Bill S.637 and to discuss policy issues for the Council’s administrative handbook.

1-3:30 p.m.—Convene the Shrimp Management Committee to approve Draft Amendment 10/Environmental Assessment for public hearings and to consider an amendment to include rock shrimp in the Shrimp fishery management plan.

3:30-5:30 p.m.—Convene the Mackerel Management Committee to discuss overfishing and overfished definitions, optimum yield targets and thresholds for Gulf group king and Spanish mackerel and to consider a pelagic longline area closure for dolphin and wahoo.

May 16

8:30 a.m.—Convene Council.

8:45-9:30 a.m.—Receive a report on the preliminary results of a study of closed gag aggregation sites at Madison/Swanson and Steamboat Lumps Marine Reserves.

9:30 a.m.-12:30 p.m.—Receive a report of the Reef Fish Management Committee.

2-3 p.m.—Receive a report of the Mackerel Management Committee.

3-4 p.m.—Receive a report of the Shrimp Management Committee.

4-4:30 p.m.—Receive a report of the Administrative Policy Committee.

4:30-4:45 p.m.—Receive a report of the Red Drum Management Committee.

4:45-5 p.m.—Receive a report of the Data Collection Committee.

May 17

8:30-8:45 a.m.—Receive a report of the Law Enforcement Committee.

8:45-9 a.m.—Receive a report of the International Convention on Conservation of Atlantic Tuna Advisory Committee Meeting.

9-9:30 a.m.—Receive a report of the NMFS Highly Migratory Species and Billfish Advisory Panel meetings.

9:30-9:45 a.m.—Receive a report of the Marine Protected Area Stakeholders Meeting.

9:45-10 a.m.—Receive a report of the Coastal States/NMFS Cooperative Fisheries Program Meeting.

10-10:15 a.m.—Receive Enforcement Reports.

10:15-10:30 a.m.—Receive the NMFS Regional Administrator’s Report.

10:30-11 a.m.—Receive Director’s Reports.

11 a.m.—Other Business.

Although non-emergency issues not contained in the agenda may come before the Council for discussion, these issues may not be the subject of formal Council action during this meeting. Council action will be restricted to those issues specifically identified in this notice and any issues arising after publication of this notice that require emergency action under section 305(c) of the Magnuson-Stevens Fishery Conservation and Management Act, provided the public has been notified of the Council’s intent to take final actions to address such emergencies.

These meetings are physically accessible to people with disabilities. Requests for sign language interpretation or other auxiliary aids should be directed to Anne Alford at the Council (see ADDRESSES) at least 5 days prior to the meeting date. A copy of the Committee schedule and agenda can be obtained by calling 813-228-2815.

Dated: April 20, 2001.
Richard W. Surdi,
Acting Director, Office of Sustainable Fisheries, National Marine Fisheries Service.

[FR Doc. 01-10440 Filed 4-25-01; 8:45 am]

BILLING CODE 3510-22-S